ENVIRONMENTAL PROTECTION AGENCY

[EPA-HQ-OPPT-2024-0114; FRL-11809-02-OCSPP]

1,1-Dichloroethane and 1,2-Dichloroethane; Peer Review of Draft Documents by the Science Advisory Committee on Chemicals (SACC); Request for Comments on Experts Being Considered as ad hoc Peer Reviewers

AGENCY: Environmental Protection Agency (EPA).

ACTION: Notice.

SUMMARY: The Environmental Protection Agency (EPA or the “Agency”) is announcing the change in the peer review mechanism from the letter peer review to a Science Advisory Committee on Chemicals (SACC) peer review; the addition of the draft human health hazard assessment for 1,2-dichloroethane for peer review; the availability of and solicitation of comment on the list of candidates under consideration for selection as ad hoc peer reviewers that will assist the SACC with their peer review of the Agency's draft risk evaluation of 1,1-dichloroethane and human health hazard assessment of 1,2-dichloroethane. The list of candidates provides the names and biographical sketches of all interested and available candidates identified from the responses to the call for nominations and other sources. Public comments on these candidates will assist the Agency in selecting ad hoc peer reviewers to assist the SACC with the identified peer review.

DATES: Submit your comments on or before June 28, 2024.

ADDRESSES: Submit comments, identified by docket identification (ID) number EPA-HQ-OPPT-2024-0114, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: The Designated Federal Official (DFO) is Alie Muneer, Mission Support Division (7602M), Office of Program Support, Office of Chemical Safety and Pollution Prevention, Environmental Protection Agency; telephone number: (202) 564-6369; email address: muneer.alie@epa.gov; or call the SACC main office at (202) 564-8450 or send an email at email address: sacc@epa.gov.

SUPPLEMENTARY INFORMATION:

I. General Information

A. What action is the Agency taking?

The Agency is seeking public comments on scientific and technical experts that EPA is considering for service as ad hoc peer reviewers that will assist the SACC with the peer review of the Agency's evaluation of the draft risk evaluation of 1,1-dichloroethane and the human health hazard assessment of 1,2-dichloroethane. The Agency requested nominations of ad hoc expert reviewers in the Federal Register of March 21, 2024 (88 FR 20201 (FRL-11809-01-OCSPP)).

B. What is the Agency's authority for taking this action?

EPA established the SACC in 2016 in accordance with TSCA, 15 U.S.C. 2625(o), to provide independent advice and expert consultation with respect to the scientific and technical aspects of issues relating to the implementation of TSCA. The SACC operates in accordance with the Federal Advisory Committee Act (FACA), 5 U.S.C. 10, and supports activities under TSCA, 15 U.S.C. 2601 et seq., the Pollution Prevention Act (PPA), 42 U.S.C. 13101 et seq., and other applicable statutes.

C. Does this action apply to me?

This action is directed to the public in general and may be of particular interest to those involved in the manufacture, processing, distribution, and disposal of the subject chemical substance, and/or those interested in the assessment of risks involving chemical substances and mixtures regulated under TSCA.

D. What should I consider as I prepare my comments for EPA?

Do not electronically submit any information you consider to be Confidential Business Information (CBI) or other information whose disclosure is restricted by statute. Copyrighted material will not be posted without explicit permission of the copyright holder. Members of the public should also be aware that personal contact information, if included in any written comments, may be posted on the internet at https://www.regulations.gov. If your comment contains any information that you consider to be CBI or otherwise protected, please contact the DFO listed under FOR FURTHER INFORMATION CONTACT to obtain special instructions before submitting that information.

E. How can I stay informed about SACC activities?

You may subscribe to the following listserv for alerts regarding this and other SACC-related activities: https://public.govdelivery.com/accounts/USAEPAOPPT/subscriber/new?topic_id=USAEPAOPPT_101.

II. Background

EPA is planning this SACC peer review of the Agency's draft risk evaluation of 1,1-dichloroethane and human health hazard assessment of 1,2-dichloroethane. As part of the TSCA risk evaluation for 1,1-dichloroethane, EPA is assessing 1,1-dichloroethane conditions of use (COUs) (e.g., processing as a reactant, processing for repackaging, processing for recycling, commercial use for laboratory chemicals, etc.). EPA is providing for public comment and peer review of the TSCA human health hazard assessment for 1,2-dichloroethane because EPA has identified 1,2-dichloroethane as an analog for 1,1-dichloroethane to support a limited non-cancer and cancer human health hazard 1,1-dichloroethane data set. Both 1,1-dichloroethane and 1,2-dichloroethane data sets were used wherever appropriate to conduct the dose-response assessment and identify points-of-departure (PODs) for the risk evaluation of 1,1-dichloroethane. Therefore, simultaneous issuance for public comment and peer review of both the full 1,1-dichloroethane draft risk evaluation (hazard and exposure assessments) and the 1,2-dichloroethane draft human health hazard assessment will provide the public and peer reviewers with the full context of the human health hazard evaluations for both chemicals.

Recommendations from the SACC peer review of the draft documents will be considered in the development of the TSCA risk evaluations for both chemical substances and may inform other EPA efforts related to the assessment and regulation of 1,1-dichloroethane and 1,2-dichloroethane. The Agency will be seeking SACC review of its data analyses and methodologies relevant to human health hazard and exposure analyses that have not been previously peer reviewed.

For additional information about the existing chemicals that have either undergone or are currently undergoing risk evaluation under TSCA, as well as information about the related process under TSCA, please see https://www.epa.gov/assessing-and-managing-chemicals-under-tsca/ongoing-and-completed-chemical-risk-evaluations-under.

III. Request for Comments on the Candidates List

A. Will ad hoc reviewers be subjected to an ethics review?

EPA is currently seeking public comments on all interested and available candidates, without prescreening for ethics concerns. However, SACC members and ad hoc peer reviewers are subject to the provisions of the Standards of Ethical Conduct for Employees of the Executive Branch at 5 CFR part 2635, conflict of interest statutes in title 18 of the United States Code and related regulations. In anticipation of this requirement, prospective candidates for service on the SACC will be asked to submit confidential financial information which shall fully disclose, among other financial interests, the candidate's employment, stocks and bonds, and where applicable, sources of research support. EPA will evaluate the candidates' financial disclosure forms to assess whether there are financial conflicts of interest, appearance of a loss of impartiality, or any prior involvement with the development of the documents under consideration (including previous scientific peer review) before the candidate is considered further for service on the SACC as a peer reviewer.

B. How will EPA select the ad hoc reviewers?

The selection of scientists to serve as ad hoc peer reviewers for the SACC is based on the function of the Committee and the expertise needed to address the Agency's charge to the Committee. No interested scientists shall be ineligible to serve by reason of their membership on any other advisory committee to a federal department or agency or their employment by a federal department or agency, except EPA. Other factors considered during the selection process include availability of the prospective candidate to fully participate in the Committee's reviews, absence of any conflicts of interest or appearance of loss of impartiality, independence with respect to the matters under review, and lack of bias. Although financial conflicts of interest, the appearance of loss of impartiality, lack of independence, and bias may result in non-selection, the absence of such concerns does not assure that a candidate will be selected to serve on the SACC.

Numerous qualified candidates are often identified for SACC reviews. Therefore, selection decisions involve carefully weighing a number of factors including the candidates' areas of expertise and professional qualifications and achieving an overall balance of different scientific perspectives across reviewers.

Authority: 15 U.S.C. 2625(o); 5 U.S.C. 10.

Dated: June 7, 2024.
Michal Freedhoff,
Assistant Administrator, Office of Chemical Safety and Pollution Prevention.

[FR Doc. 2024-12963 Filed 6-12-24; 8:45 am]

BILLING CODE 6560-50-P